DEPARTMENT OF ENERGY

Federal Energy Regulatory Commission

Combined Notice of Filings #2

Take notice that the Commission received the following electric rate filings:

Docket Numbers: ER10-2063-001.

Applicants: Otter Tail Power Company.

Description: Updated Market Power Analysis for Central Region of Otter Tail Power Company.

Filed Date: 12/31/14.

Accession Number: 20141231-5311.

Comments Due: 5 p.m. ET 3/2/15.

Docket Numbers: ER10-3199-002.

Applicants: MDU Resources Group, Inc.

Description: Updated Market Power Analysis of MDU Resources Group, Inc. under ER10-3199 [complete filing that replaces submission20141231-5313].

Filed Date: 12/31/14.

Accession Number: 20141231-5316.

Comments Due: 5 p.m. ET 3/2/15.

Docket Numbers: ER15-819-000.

Applicants: PJM Interconnection, L.L.C.

Description: PJM Interconnection, L.L.C. submits 2014 Annual RTEP Allocation Filing.

Filed Date: 12/31/14.

Accession Number: 20141231-5315.

Comments Due: 5 p.m. ET 1/21/15.

Take notice that the Commission received the following land acquisition reports:

Docket Numbers: LA14-3-000.

Applicants: Otter Tail Power Company.

Description: Quarterly Land Acquisition Report of Otter Tail Power Company..

Filed Date: 12/31/14.

Accession Number: 20141231-5307.

Comments Due: 5 p.m. ET 1/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2015.
Nathaniel J. Davis, Sr.,
Deputy Secretary.

[FR Doc. 2015-00189 Filed 1-9-15; 8:45 am]

BILLING CODE 6717-01-P